DEPARTMENT OF COMMERCE

Foreign-Trade Zones Board

[B-46-2022]

Foreign-Trade Zone 59—Lincoln, Nebraska; Application for Expansion of Subzone 59B; CNH Industrial America LLC, Grand Island, Nebraska

An application has been submitted to the Foreign-Trade Zones (FTZ) Board by Lincoln Foreign Trade Zone, Inc., grantee of FTZ 59, requesting an expansion of Subzone 59B on behalf of CNH Industrial America LLC. The application was submitted pursuant to the provisions of the Foreign-Trade Zones Act, as amended (19 U.S.C. 81a-81u), and the regulations of the FTZ Board (15 CFR part 400). It was formally docketed on September 28, 2022.

Subzone 59B was approved by the FTZ Board on August 19, 2010 (Board Order 1700, 75 FR 54092, September 3, 2010) and production activity was authorized on August 15, 2013 (B-40-2013, 78 FR 51707, August 21, 2013). The subzone consists of the following sites in Hall County: Site 1 (132.52 acres)—3445 W Stolley Park Road, Grand Island; and, Site 2 (38.93 acres)—1011 Claude Road, Grand Island.

The applicant is requesting authority to expand the subzone to include an additional 32.2 acres within Site 1 located at 3445 W Stolley Park Road in Grand Island (new site total—164.72 acres). No authorization for additional production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is [INSERT DATE 40 DAYS AFTER DATE OF PUBLICATION IN THE Federal Register]. Rebuttal comments in response to material submitted during the foregoing period may be submitted during the subsequent 15-day period to [INSERT DATE 55 DAYS AFTER DATE OF PUBLICATION IN THE Federal Register].

A copy of the application will be available for public inspection in the “Online FTZ Information Section” section of the FTZ Board's website, which is accessible via www.trade.gov/ftz.

For further information, contact Camille Evans at Camille.Evans@trade.gov.

Dated: September 28, 2022.
Elizabeth Whiteman,
Acting Executive Secretary.

[FR Doc. 2022-21361 Filed 9-30-22; 8:45 am]

BILLING CODE 3510-DS-P